DEPARTMENT OF ENERGY

Federal Energy Regulatory Commission

Combined Notice of Filings

Take notice that the Commission has received the following Natural Gas Pipeline Rate and Refund Report filings:

Filings Instituting Proceedings

Docket Numbers: RP13-1290-000.

Applicants: MoGas Pipeline LLC.

Description: Annual Fuel and Gas Loss Retention Percentage Adjustment Filing to be effective 10/1/2013.

Filed Date: 8/30/13.

Accession Number: 20130830-5019.

Comments Due: 5 p.m. ET 9/11/13.

Docket Numbers: RP13-1291-000.

Applicants: Midwestern Gas Transmission Company.

Description: LMS-MA and LMS-PA Modification to be effective 10/1/2013.

Filed Date: 8/30/13.

Accession Number: 20130830-5029.

Comments Due: 5 p.m. ET 9/11/13.

Docket Numbers: RP13-1292-000.

Applicants: WBI Energy Transmission, Inc.

Description: 2013 Semi-annual Fuel and Electric Power Reimbursement to be effective 10/1/2013.

Filed Date: 8/30/13.

Accession Number: 20130830-5032.

Comments Due: 5 p.m. ET 9/11/13.

Docket Numbers: RP13-1293-000.

Applicants: Enable Gas Transmission, LLC.

Description: F-185 Fuel Waiver to be effective 10/1/2013.

Filed Date: 8/30/13.

Accession Number: 20130830-5036.

Comments Due: 5 p.m. ET 9/11/13.

Docket Numbers: RP13-1295-000.

Applicants: Ruby Pipeline, L.L.C.

Description: FL&U Effective October 1, 2013 to be effective 10/1/2013.

Filed Date: 8/30/13.

Accession Number: 20130830-5044.

Comments Due: 5 p.m. ET 9/11/13.

Docket Numbers: RP13-1296-000.

Applicants: Transcontinental Gas Pipe Line Company.

Description: Interim Fuel Tracker Filing 2013 to be effective 10/1/2013.

Filed Date: 8/30/13

Accession Number: 20130830-5050.

Comments Due: 5 p.m. ET 9/11/13.

Docket Numbers: RP13-1297-000.

Applicants: Enable Mississippi River Transmission, L.

Description: Negotiated Rate Filing to Remove #4226 eff 9-01-2013 to be effective 9/1/2013.

Filed Date: 8/30/13.

Accession Number: 20130830-5059.

Comments Due: 5 p.m. ET 9/11/13.

Docket Numbers: RP13-1299-000.

Applicants: Texas Eastern Transmission, LP.

Description: EQT Energy 8929760 9-1-2013 Negotiated Rate to be effective 9/1/2013.

Filed Date: 8/30/13.

Accession Number: 20130830-5103.

Comments Due: 5 p.m. ET 9/11/13.

Docket Numbers: RP13-1300-000.

Applicants: Colorado Interstate Gas Company, L.L.C.

Description: Annual Fuel and LUF True-up Filing to be effective 10/1/2013.

Filed Date: 8/30/13.

Accession Number: 20130830-5105.

Comments Due: 5 p.m. ET 9/11/13.

Docket Numbers: RP13-1301-000.

Applicants: Enable Gas Transmission, LLC.

Description: Negotitated Rate Filing—September 2013—Devon to be effective 9/1/2013.

Filed Date: 8/30/13

Accession Number: 20130830-5106.

Comments Due: 5 p.m. ET 9/11/13.

Docket Numbers: RP13-1302-000.

Applicants: Ozark Gas Transmission, L.L.C.

Description: Neg Rate—Tenaska Marketing Ventures 9-1-2013 to be effective 9/1/2013.

Filed Date: 8/30/13.

Accession Number: 20130830-5119.

Comments Due: 5 p.m. ET 9/11/13.

Docket Numbers: RP13-1305-000.

Applicants: Equitrans, L.P.

Description: Negotiated Rate Service Agreements—KIMCO, Mountain V & ANJA to be effective 9/1/2013.

Filed Date: 8/30/13.

Accession Number: 20130830-5150.

Comments Due: 5 p.m. ET 9/11/13.

Docket Numbers: RP13-1306-000.

Applicants: Tallgrass Interstate Gas Transmission, L.

Description: Neg Rate 2013-08-30 Grasslands to be effective 9/1/2013.

Filed Date: 8/30/13.

Accession Number: 20130830-5164.

Comments Due: 5 p.m. ET 9/11/13.

Docket Numbers: RP13-1308-000

Applicants: Columbia Gas Transmission, LLC.

Description: Negotiated Rate Agreement—Southwestern Energy to be effective 9/1/2013.

Filed Date: 8/30/13.

Accession Number: 20130830-5205.

Comments Due: 5 p.m. ET 9/11/13.

Docket Numbers: RP13-1309-000.

Applicants: Northwest Pipeline LLC.

Description: 2013 Winter Fuel Filing to be effective 10/1/2013.

Filed Date: 8/30/13.

Accession Number: 20130830-5214.

Comments Due: 5 p.m. ET 9/11/13.

Docket Numbers: RP13-1310-000.

Applicants: Gulf South Pipeline Company, LP.

Description: ENS Cycle Change to be effective 10/3/2013.

Filed Date: 9/3/13.

Accession Number: 20130903-5030.

Comments Due: 5 p.m. ET 9/16/13.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: September 3, 2013.
Nathaniel J. Davis, Sr.,
Deputy Secretary.

[FR Doc. 2013-21956 Filed 9-9-13; 8:45 am]

BILLING CODE 6717-01-P